DEPARTMENT OF JUSTICE

Notice of Lodging of Proposed Consent Decree; J.L. Land Development

In accordance with Departmental Policy, 28 CFR 50.7, notice is hereby given that a proposed consent decree in United States v. J.L. Land Development, Inc., Civil Action No. 8:00-cv-329-T-EAJ (M.D. Fla.), was lodged with the United States District Court for the Middle District of Florida on February 15, 2001. This proposed Consent Decree concerns a complaint filed by the United States against J.L. Land Development, Inc., pursuant to sections 301(a) and 404 of the Clean Water Act, 33 U.S.C. §§ 1311(a) and 1344 and imposes civil penalties against the Defendant for the unauthorized discharge of dredged or fill material into 7.26 acres of wetlands during peat mining activities and the construction of a golf course by the developer of Ridgewood Lakes, a residential development located in Davenport, Polk County, Florida.

The proposed Consent Decree requires: (1) The payment of civil penalties in the amount of $100,000; (2) the restoration of 2.59 acres of wetlands impacted by peat mining activities and (3) the performance of mitigation by restoring hydrology to 180.67 acres of forested wetlands that were previously artificially, though lawfully drained. At the same time, the defendant would receive a nationwide permit 32 allowing 0.5 acre of fill to remain in wetlands associated with golf course construction.

The Department of Justice will accept written comments relating to this proposed Consent Decree for thirty (30) days from the date of publication of this notice. Please address comments to Marianne Zaccaro, United States Attorney's Office, 400 N. Tampa Street, Suite 3200, Tampa, Florida 33602 and refer to United States v. J.L. Land Development, Inc.

The proposed Consent Decree may be examined at the Clerk's Office, United States District Court for the Middle District of Florida, Sam M. Gibbons U.S. Courthouse, 801 N. Florida Avenue, Tampa, Florida 33602.

Stephen Samuels,
Assistant Section Chief, Environmental Defense Section, Environment & Natural Resources Division.

[FR Doc. 01-5705 Filed 3-7-01; 8:45 am]

BILLING CODE 4410-15-M